DEPARTMENT OF AGRICULTURE

Animal and Plant Health Inspection Service

[Docket No. 01-011-2]

Public Meeting; Veterinary Biologics; Correction

AGENCY: Animal and Plant Health Inspection Service, USDA.

ACTION: Notice of public meeting; correction.

SUMMARY: We are correcting an error in a notice informing interested individuals of a public meeting on biologics for cancer diagnosis, prevention, and immunotherapy. The notice was published in the Federal Register on March 7, 2001 (66 FR 13696). The notice had the wrong e-mail address for Dr. Dave M. Dusek in FOR FURTHER INFORMATION CONTACT. This document corrects the e-mail address.

DATES: The public meeting will be held on Thursday and Friday, April 12 and 13, 2001, from 8 a.m. to approximately 5 p.m.

ADDRESSES: The public meeting will be held in the Scheman Building at the Iowa State Center, Iowa State University, Ames, IA.

FOR FURTHER INFORMATION CONTACT: For further information about the meeting, contact Dr. Dave M. Dusek, Center for Veterinary Biologics, Veterinary Services, APHIS, 510 South 17th Street, Suite 104, Ames, IA 50010-8197; phone (515) 232-5785, fax (515) 232-7120, or e-mail David.M.Dusek@usda.gov. For registration information, contact Ms. Dawne Buhrow at the Institute for International Cooperation in Animal Biologics, room 2160, College of Veterinary Medicine, Iowa State University, Ames, IA 50011; phone (515) 294-7632, fax (515) 294-8259, or e-mail iicab@iastate.edu. Information is also available online at http://www.vetmed.iastate.edu/iicab/cancerbiologics.htm.

Done in Washington, DC, this 15th day of March 2001.
Bobby R. Acord,
Acting Administrator, Animal and Plant Health Inspection Service.

[FR Doc. 01-6857 Filed 3-19-01; 8:45 am]

BILLING CODE 3410-34-P